FEDERAL DEPOSIT INSURANCE CORPORATION

12 CFR Parts 324, 329, and 382

RIN 3064-AE46

Restrictions on Qualified Financial Contracts of Certain FDIC-Supervised Institutions; Revisions to the Definition of Qualifying Master Netting Agreement and Related Definitions

AGENCY: Federal Deposit Insurance Corporation (FDIC).

ACTION: Final rule; technical correction; confirmation of effective date.

SUMMARY: This document makes technical corrections to regulations that were published in the Federal Register on October 30, 2017. The FDIC added Part 382 to its regulations to improve the resolvability of systemically important U.S. banking organizations and systemically important foreign banking organizations and enhance the resilience and the safety and soundness of certain State savings associations and State-chartered banks and made certain conforming changes to Part 329. This document is being published to make technical corrections to certain rules under Parts 329 and 382 and make effective amendatory instruction 6 in the previously published regulation.

DATES: Effective January 1, 2018. Amendatory instruction 6 in the final rule published October 30, 2017, at 82 FR 50228, is effective January 1, 2018.

FOR FURTHER INFORMATION CONTACT: Ryan Billingsley, Acting Associate Director, Capital Markets Branch, Division of Risk Management and Supervision, rbillingsley@fdic.gov; Alexandra Steinberg Barrage, Senior Resolution Policy Specialist, Office of Complex Financial Institutions, abarrage@fdic.gov; David N. Wall, Assistant General Counsel, dwall@fdic.gov, Cristina Regojo, Counsel, cregojo@fdic.gov, Phillip Sloan, Counsel, psloan@fdic.gov, Michael Phillips, Counsel, mphillips@fdic.gov, Greg Feder, Counsel, gfeder@fdic.gov, or Francis Kuo, Counsel, fkuo@fdic.gov, Legal Division, Federal Deposit Insurance Corporation, 550 17th Street NW, Washington, DC 20429.

SUPPLEMENTARY INFORMATION: We are making technical corrections to 12 CFR 329.3 and 382.2. We are also making effective amendatory instruction #6, published in the final rule on October 30, 2017, at 82 FR 50228.

List of Subjects

12 CFR Part 329

Administrative practice and procedure, Banks, banking, Federal Deposit Insurance Corporation, FDIC, Liquidity, Reporting and recordkeeping requirements.

12 CFR Part 382

Administrative practice and procedure, Banks, banking, Federal Deposit Insurance Corporation, FDIC, Qualified financial contracts, Reporting and recordkeeping requirements, State savings associations, State non-member banks.

For the reasons stated in the supplementary information, the Federal Deposit Insurance Corporation amends 12 CFR chapter III as follows:

PART 329—LIQUIDITY RISK MEASUREMENT STANDARDS

1. The authority citation for part 329 continues to read as follows:

Authority: 12 U.S.C. 1815, 1816, 1818, 1819, 1828, 1831p-1, 5412.

§ 329.3 [Amended]

2. In § 329.3, amend paragraph (2)(i)(A) of the definition of “Qualifying master netting agreement” by adding “or” following the semi-colon.

PART 382—RESTRICTIONS ON QUALIFIED FINANCIAL CONTRACTS

3. The authority citation for part 382 continues to read as follows:

Authority: 12 U.S.C. 1816, 1818, 1819, 1820(g), 1828, 1828(m), 1831n, 1831o, 1831p-l, 1831(u), 1831w.

§ 382.1 [Amended]

4. As of January 1, 2018, make effective amendatory instruction #6 as published October 30, 2017, at 82 FR 50228.

§ 382.2 [Amended]

5. In § 382.2, amend paragraph (c)(1)(ii) by removing “January 19, 2019” and adding “January 1, 2019” in its place.

Dated at Washington, DC, on December 21, 2017.
Federal Deposit Insurance Corporation.
Valerie J. Best,
Assistant Executive Secretary.

[FR Doc. 2017-27971 Filed 12-27-17; 8:45 am]

BILLING CODE 6714-01-P